DEPARTMENT OF ENERGY

Federal Energy Regulatory Commission

Combined Notice of Filings #1

Take notice that the Commission received the following exempt wholesale generator filings:

Docket Numbers: EG25-2-000.

Applicants: BCE Seal Beach, LLC.

Description: BCE Seal Beach, LLC submits Notice of Self-Certification of Exempt Wholesale Generator Status.

Filed Date: 10/4/24.

Accession Number: 20241004-5054.

Comment Date: 5 p.m. ET 10/25/24.

Take notice that the Commission received the following Complaints and Compliance filings in EL Dockets:

Docket Numbers: EL24-150-000; TX24-5-000.

Applicants: Madras PV1, LLC, Madras PV1, LLC.

Description: Petition for Declaratory Order of Madras PV1, LLC.

Filed Date: 9/4/24.

Accession Number: 20240904-5218.

Comment Date: 5 p.m. ET 11/4/24.

Take notice that the Commission received the following electric rate filings:

Docket Numbers: ER23-2449-000.

Applicants: Lyons Solar, LLC.

Description: Refund Report: Refund Report to be effective N/A.

Filed Date: 10/4/24.

Accession Number: 20241004-5071.

Comment Date: 5 p.m. ET 10/25/24.

Docket Numbers: ER24-2450-000.

Applicants: Lyons Solar, LLC.

Description: Refund Report: Refund Report to be effective N/A.

Filed Date: 10/4/24.

Accession Number: 20241004-5073.

Comment Date: 5 p.m. ET 10/25/24.

Docket Numbers: ER24-2921-000.

Applicants: Boswell Wind, LLC.

Description: Supplement to 08/29/2024 Boswell Wind, LLC tariff filing.

Filed Date: 10/3/24.

Accession Number: 20241003-5189.

Comment Date: 5 p.m. ET 10/15/24.

Docket Numbers: ER24-3147-001.

Applicants: PacifiCorp.

Description: Tariff Amendment: Errata Filing: Project Construction Construction Agreement (RS No. 789) to be effective 11/30/2024.

Filed Date: 10/4/24.

Accession Number: 20241004-5078.

Comment Date: 5 p.m. ET 10/25/24.

Docket Numbers: ER25-34-000.

Applicants: New York Independent System Operator, Inc.

Description: Tariff Amendment: Notice of Cancellation: SGIA SA 2572 among NYISO, National Grid, and Bakerstand to be effective 12/4/2024.

Filed Date: 10/4/24.

Accession Number: 20241004-5030.

Comment Date: 5 p.m. ET 10/25/24.

Docket Numbers: ER25-35-000.

Applicants: New York Independent System Operator, Inc.

Description: Tariff Amendment: Notice of Cancellation: Amnd SGIA SA 2571 among NYISO, National Grid, Martin Rd to be effective 12/4/2024.

Filed Date: 10/4/24.

Accession Number: 20241004-5037.

Comment Date: 5 p.m. ET 10/25/24.

Docket Numbers: ER25-36-000.

Applicants: BCE Seal Beach, LLC.

Description: Baseline eTariff Filing: Market-Based Rate Application to be effective 12/4/2024.

Filed Date: 10/4/24.

Accession Number: 20241004-5055.

Comment Date: 5 p.m. ET 10/25/24.

Docket Numbers: ER25-37-000.

Applicants: Southern California Edison Company.

Description: § 205(d) Rate Filing: 1st Amend GIA & DSA, SCEBESS-021 (WDT1514-WDT1935/SA Nos. 1087-1088) to be effective 10/5/2024.

Filed Date: 10/4/24.

Accession Number: 20241004-5068.

Comment Date: 5 p.m. ET 10/25/24.

Docket Numbers: ER25-38-000.

Applicants: AEP Texas Inc.

Description: § 205(d) Rate Filing: AEPTX-BRP Antlia BESS 4th Amended Generator Interconnection Agreement to be effective 9/17/2024.

Filed Date: 10/4/24.

Accession Number: 20241004-5075.

Comment Date: 5 p.m. ET 10/25/24.

Docket Numbers: ER25-39-000.

Applicants: PJM Interconnection, L.L.C.

Description: § 205(d) Rate Filing: Original CSA, SA No. 7375; Project Identifier No. AE2-298 to be effective 9/9/2024.

Filed Date: 10/4/24.

Accession Number: 20241004-5083.

Comment Date: 5 p.m. ET 10/25/24.

Docket Numbers: ER25-40-000.

Applicants: Northern Indiana Public Service Company LLC.

Description: § 205(d) Rate Filing: Parr Supplement to WVPA IA to be effective 10/4/2024.

Filed Date: 10/4/24.

Accession Number: 20241004-5088.

Comment Date: 5 p.m. ET 10/25/24.

Docket Numbers: ER25-41-000.

Applicants: Otter Tail Power Company.

Description: § 205(d) Rate Filing: Fargo-Moorhead Flood Mitigation Project Certificate of Concurrence—MURA—NSP to be effective 8/8/2024.

Filed Date: 10/4/24.

Accession Number: 20241004-5097.

Comment Date: 5 p.m. ET 10/25/24.

Docket Numbers: ER25-42-000.

Applicants: Midcontinent Independent System Operator, Inc.

Description: § 205(d) Rate Filing: 2024-10-04_SA 3643 Termination of ITC Midwest-Ledyard Windpower E&P (J836) to be effective 10/5/2024.

Filed Date: 10/4/24.

Accession Number: 20241004-5106.

Comment Date: 5 p.m. ET 10/25/24.

Docket Numbers: ER25-43-000.

Applicants: Midcontinent Independent System Operator, Inc.

Description: § 205(d) Rate Filing: 2024-10-04_SA 3665 Termination of ATC-North Rock Solar E&P (J1188) to be effective 10/5/2024.

Filed Date: 10/4/24.

Accession Number: 20241004-5130.

Comment Date: 5 p.m. ET 10/25/24.

Docket Numbers: ER25-44-000.

Applicants: Portland General Electric Company.

Description: § 205(d) Rate Filing: Second Amended and Restated Colstrip Transmission Agreement to be effective 10/5/2024.

Filed Date: 10/4/24.

Accession Number: 20241004-5134.

Comment Date: 5 p.m. ET 10/25/24.

Docket Numbers: ER25-45-000.

Applicants: Midcontinent Independent System Operator, Inc.

Description: § 205(d) Rate Filing: 2024-10-04_SA 4359 ATC-WPL GIA (J1706) to be effective 9/30/2024.

Filed Date: 10/4/24.

Accession Number: 20241004-5149.

Comment Date: 5 p.m. ET 10/25/24.

Docket Numbers: ER25-46-000.

Applicants: AEP Texas Inc.

Description: § 205(d) Rate Filing: AEPTX—Texas New Mexico Power (Fort Stockton Sw) Facilities Agreement to be effective 9/17/2024.

Filed Date: 10/4/24.

Accession Number: 20241004-5160.

Comment Date: 5 p.m. ET 10/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 4, 2024.
Debbie-Anne A. Reese,
Acting Secretary.

[FR Doc. 2024-23525 Filed 10-10-24; 8:45 am]

BILLING CODE 6717-01-P